DEPARTMENT OF THE TREASURY

Office of Foreign Assets Control

[Case ID: CYBER2-16237]

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Actions

On June 16, 2020, OFAC determined that the property and interests in property subject to U.S. jurisdiction of the following persons are blocked under the relevant sanctions authority listed below.

Individuals:

1. BENSON, Nnamdi Orson, Nigeria; DOB 21 Mar 1987; nationality Nigeria; Gender Male; Passport A06417829 (Nigeria) (individual) [CYBER2].

Designated pursuant to section 1(a)(iii)(B) of Executive Order 13694 of April 1, 2015, “Blocking Property of Certain Persons Engaging in Significant Malicious Cyber-Enabled Activities,” as amended by Executive Order 13757 of December 28, 2016, “Taking Additional Steps to Address the National Emergency With Respect to Significant Malicious Cyber-Enabled Activities,” (E.O. 13694, as amended), for having materially assisted, sponsored, or provided financial, material, or technological support for, or goods or services to or in support of, Richard Izuchukwu UZUH, a person whose property and interests in property are blocked pursuant to E.O. 13694, as amended.

2. KAYODE, Abiola Ayorinde, Nigeria; DOB 14 Nov 1987; nationality Nigeria; Gender Male; Passport A05637743 (Nigeria) (individual) [CYBER2].

Designated pursuant to section 1(a)(iii)(B) of E.O. 13694, as amended, for having materially assisted, sponsored, or provided financial, material, or technological support for, or goods or services to or in support of, Richard Izuchukwu UZUH and Micheal OLORUNYOMI, persons whose property and interests in property are blocked pursuant to E.O. 13694, as amended.

3. OGUNSHAKIN, Alex Afolabi, Nigeria; DOB 23 Feb 1983; nationality Nigeria; Gender Male; Passport A05285583 (Nigeria) (individual) [CYBER2].

Designated pursuant to section 1(a)(iii)(B) of E.O. 13694, as amended, for having materially assisted, sponsored, or provided financial, material, or technological support for, or goods or services to or in support of, Richard Izuchukwu UZUH, a person whose property and interests in property are blocked pursuant to E.O. 13694, as amended.

4. OKPOH, Felix Osilama, Nigeria; DOB 09 Mar 1989; nationality Nigeria; Gender Male; Passport A06415967 (Nigeria) (individual) [CYBER2].

Designated pursuant to section 1(a)(iii)(B) of E.O. 13694, as amended, for having materially assisted, sponsored, or provided financial, material, or technological support for, or goods or services to or in support of, Richard Izuchukwu UZUH, a person whose property and interests in property are blocked pursuant to E.O. 13694, as amended.

5. OLORUNYOMI, Micheal, Nigeria; DOB 12 May 1983; nationality Nigeria; Gender Male; Passport A50143448 (Nigeria) (individual) [CYBER2].

Designated pursuant to section 1(a)(ii)(D) of E.O. 13694, as amended, for being responsible for or complicit in, or having engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

6. UZUH, Richard Izuchukwu, Nigeria; DOB 29 Apr 1986; nationality Nigeria; Gender Male; Passport A05284868 (Nigeria) (individual) [CYBER2].

Designated pursuant to section 1(a)(ii)(D) of E.O. 13694, as amended, for being responsible for or complicit in, or having engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

Dated: June 16, 2020.
Andrea Gacki,
Director, Office of Foreign Assets Control.

[FR Doc. 2020-13271 Filed 6-18-20; 8:45 am]

BILLING CODE 4810-AL-P